DEPARTMENT OF AGRICULTURE

National Agricultural Statistics Service

Notice of Intent To Suspend the Agricultural Labor Survey and Farm Labor Reports

AGENCY: National Agricultural Statistics Service, USDA.

ACTION: Notice of suspension of data collection and publication.

SUMMARY: This notice announces the intention of the National Agricultural Statistics Service (NASS) to suspend a currently approved information collection, the Agricultural Labor Survey, and its associated publication.

FOR FURTHER INFORMATION CONTACT: Joseph T. Reilly, Associate Administrator, National Agricultural Statistics Service, U.S. Department of Agriculture, (202) 720-4333.

SUPPLEMENTARY INFORMATION: Title: Agricultural Labor Survey.

OMB Control Number: 0535-0109.

Expiration Date of Approval: November 30, 2012.

Type of Request: To suspend a currently approved information collection.

Abstract: The primary objective of the National Agricultural Statistics Service is to prepare and issue state and national estimates of crop and livestock production, disposition, and prices. The Agricultural Labor Survey provides quarterly statistics on the number of agricultural workers, hours worked, and wage rates. Number of workers and hours worked are used to estimate agricultural productivity; wage rates are used in the administration of the H-2A Program and for setting Adverse Effect Wage Rates. Survey data are also used to carry out provisions of the Agricultural Adjustment Act.

NASS will suspend this information collection as of May 18, 2011 due to budget constraints. NASS will not publish the April Farm Labor report due for release on Thursday, May 19, 2011. The Farm Labor reports for July, and October 2011 will also not be published unless there is a change in the anticipated budget shortfall.

Authority: These data were collected under authority of 7 U.S.C. 2204(a). Individually identifiable data collected under this authority are governed by Section 1770 of the Food Security Act of 1985, 7 U.S.C. 2276, which requires USDA to afford strict confidentiality to non-aggregated data provided by respondents.

Estimate of Burden: There will be no further public reporting burden for this quarterly collection of information.

Signed at Washington, DC, April 3, 2011.
Joseph T. Reilly,
Associate Administrator.

[FR Doc. 2011-12255 Filed 5-17-11; 8:45 am]

BILLING CODE 3410-20-P